DEPARTMENT OF THE INTERIOR

Fish and Wildlife Service

[FWS-R2-ES-2021-N215; FXES11130200000-223-FF02ENEH00]

Endangered and Threatened Wildlife and Plants; Initiation of 5-Year Status Reviews of 35 Species in the Southwest

AGENCY: Fish and Wildlife Service, Interior.

ACTION: Notice of initiation of reviews; request for information.

SUMMARY: We, the U.S. Fish and Wildlife Service, are conducting 5-year status reviews under the Endangered Species Act of 35 animal and plant species. A 5-year status review is based on the best scientific and commercial data available at the time of the review; therefore, we are requesting submission of any such information that has become available since the last review for the species.

DATES: To ensure consideration, we are requesting submission of new information no later than March 4, 2022. However, we will continue to accept new information about any listed species at any time.

ADDRESSES: For how to request or submit information, see Request for Information and How do I ask questions or provide information? in the SUPPLEMENTARY INFORMATION section.

FOR FURTHER INFORMATION CONTACT: For information on a particular species, contact the appropriate person or office listed in the table in the SUPPLEMENTARY INFORMATION section. For general information, contact Beth Forbus, by telephone at 505-248-6681; or by email at Beth_Forbus@fws.gov. Individuals who are hearing impaired or speech impaired may call the Federal Relay Service at 800-877-8339 for TTY assistance.

SUPPLEMENTARY INFORMATION:

Why do we conduct a 5-year review?

Under the Endangered Species Act of 1973, as amended (ESA; 16 U.S.C. 1531 et seq.), we maintain Lists of Endangered and Threatened Wildlife and Plants (which we collectively refer to as the List) in the Code of Federal Regulations (CFR) at 50 CFR 17.11 (for animals) and 17.12 (for plants). Section 4(c)(2)(A) of the ESA requires us to review each listed species' status at least once every 5 years. Our regulations at 50 CFR 424.21 require that we publish a notice in the Federal Register announcing those species under active review. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the ESA); and

(E) Other new information, data, or corrections, including but not limited to taxonomic or nomenclatural changes, identification of erroneous information contained in the List, and improved analytical methods.

Which species are under review?

The species in the following table are under active 5-year status review.

Common name | Scientific name | Listing status | Current range | Final listing rule (Federal Register citation and publication date) | Contact person, phone, email | Contact person's U.S. mail address
ANIMALS
Chiricahua leopard frog Desert pupfish Loach minnow | Rana chiricahuensis Cyprinodon macularius Tiaroga cobitis | Threatened Endangered Endangered | Arizona and New Mexico (USA), and Mexico Arizona and California (USA), and Mexico Arizona and New Mexico (USA), and Mexico | 67 FR 40790; 6/13/2002 51 FR 10842; 3/31/1986 51 FR 39468; 10/28/1986 | Mark Lamb, Acting Field Supervisor, Mark_Lamb@fws.gov (email) | U.S. Fish and Wildlife Service, Arizona Ecological Services Office, 9828 North 31st Avenue, #C3, Phoenix, AZ 85051-2518.
Mexican spotted owl | Strix occidentalis lucida | Threatened | Arizona, Colorado, New Mexico, Texas, Utah (USA), and Mexico | 58 FR 14248; 3/16/1993
Mount Graham red squirrel | Tamiasciurus hudsonicus grahamensis | Endangered | Arizona | 52 FR 20994; 6/3/1987
Sonora chub | Gila ditaenia | Threatened | Arizona (USA), and Mexico | 51 FR 16042; 4/30/1986
Sonoran tiger salamander | Ambystoma tigrinum stebbinsi | Endangered | Arizona (USA), and Mexico | 62 FR 665; 1/6/1997
Spikedace | Meda fulgida | Endangered | Arizona and New Mexico (USA), and Mexico | 51 FR 23769; 7/1/1986
Three Forks springsnail | Pyrgulopsis trivialis | Endangered | Arizona | 77 FR 23060; 4/17/2012
Yuma clapper rail | Rallus longirostris yumanensis | Endangered | Arizona, California, and Nevada (USA), and Mexico | 32 FR 4001; 3/11/1967
Northern Aplomado falcon Braken Bat Cave meshweaver | Falco femoralis septentrionalis Cicurina venii | Endangered Nonessential experimental Endangered | Texas (USA), Mexico and Guatemala Arizona, New Mexico, and Texas Texas | 51 FR 6686; 2/25/1986 71 FR 42298; 7/26/2006 65 FR 81419; 12/26/2000 | Chuck Ardizzone, Field Supervisor, 281-286-8282 x26506 (phone) or Chuck_Ardizzone@fws.gov (email) | U.S. Fish and Wildlife Service, Texas Coastal Ecological Services Field Office, 17629 El Camino Real, Suite 211, Houston, TX 77058.
Clear Creek gambusia | Gambusia heterochir | Endangered | Texas | 32 FR 4001; 3/11/1967
Devils River minnow | Dionda diaboli | Threatened | Texas (USA), and Mexico | 64 FR 56596; 10/20/1999
Leopard darter | Percina pantherina | Threatened | Arkansas and Oklahoma | 43 FR 3711; 1/27/1978 | Ken Collins, Acting Field Office Supervisor, 918-382-4510 (phone), or Ken_Collins@fws.gov (email) | U.S. Fish and Wildlife Service, Oklahoma Ecological Services Field Office, 9014 East 21st Street, Tulsa, Oklahoma 74129.
PLANTS
Mesa Verde cactus Mancos milk-vetch Sacramento Mountains thistle | Sclerocactus mesae-verdae Astragalus humillimus Cirsium vinaceum | Threatened Endangered Threatened | Colorado and New Mexico Colorado and New Mexico New Mexico | 44 FR 62471; 10/30/1979 50 FR 26568; 6/27/1985 52 FR 22933; 6/16/1987 | Shawn Sartorious, Field Supervisor, 505-761-4781 (phone) or Shawn_Sartorious@fws.gov (email) | U.S. Fish and Wildlife Service, 2105 Osuna Rd. NE, Albuquerque, NM 87113-1001.
Sacramento prickly poppy | Argemone pleiacantha ssp. pinnatisecta | Endangered | New Mexico | 54 FR 35302; 8/24/1989
Todsen's pennyroyal | Hedeoma todsenii | Endangered | New Mexico | 46 FR 5730; 1/19/1981
Arizona cliffrose Arizona hedgehog cactus | Purshia (=Cowania) subintegra Echinocereus triglochidiatus var. arizonicus | Endangered Endangered | Arizona Arizona | 49 FR 22326; 5/29/1984 44 FR 61556; 10/25/1979 | Mark Lamb, Acting Field Supervisor, Mark_Lamb@fws.gov (email) | U.S. Fish and Wildlife Service, Arizona Ecological Services Office, 9828 North 31st Avenue, #C3, Phoenix, AZ 85051-2517.
Brady pincushion cactus | Pediocactus bradyi | Endangered | Arizona | 44 FR 61784; 10/26/1979
Peebles Navajo cactus | Pediocactus peeblesianus var. peeblesianus | Endangered | Arizona | 44 FR 61922; 10/26/1979
Texas wild-rice Ashy dogweed Black lace cactus | Zizania texana Thymophylla tephroleuca Echinocereus reichenbachii var. albertii | Endangered Endangered Endangered | Texas Texas Texas | 43 FR 17910; 4/26/1978 49 FR 29232; 7/19/1984 44 FR 61918; 10/26/1979 | Chuck Ardizzone, Field Supervisor, 281-286-8282 X26506 (phone) or Chuck_Ardizzone@fws.gov (email) | U.S. Fish and Wildlife Service, Texas Coastal Ecological Services Field Office, 17629 El Camino Real, Suite 211, Houston, TX 77058.
Large-fruited sand-verbena | Abronia macrocarpa | Endangered | Texas | 53 FR 37975; 9/28/1988
Navasota ladies-tresses | Spiranthes parksii | Endangered | Texas | 47 FR 19539; 5/6/1982
Slender rush-pea | Hoffmannseggia tenella | Endangered | Texas | 50 FR 45614; 11/1/1985
South Texas ambrosia | Ambrosia cheiranthifolia | Endangered | Texas | 59 FR 43648; 8/24/1994
Star cactus | Astrophytum asterias | Endangered | Texas (USA), and Mexico | 58 FR 53804; 10/18/1993
Texas ayenia (Tamaulipan Kidneypetal) | Ayenia limitaris | Endangered | Texas (USA), and Mexico | 59 FR 43648; 8/24/1994
Texas prairie dawn-flower | Hymenoxys texana | Endangered | Texas | 51 FR 8681; 3/13/1986
Walker's manioc | Manihot walkerae | Endangered | Texas (USA), and Mexico | 56 FR 49850; 10/2/1991

Request for Information

To ensure that a 5-year review is complete and based on the best available scientific and commercial information, we request new information from all sources. See What Information do we consider in our review? for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts. Individuals who are hearing impaired or speech impaired may call the Federal Relay Service at 800-877-8339 for TTY assistance.

Public Availability of Comments

Before including your address, phone number, email address, or other personal identifying information in your comment, you should be aware that your entire comment—including your personal identifying information—may be made publicly available at any time. While you can ask us in your comment to withhold your personal identifying information from public review, we cannot guarantee that we will be able to do so.

Completed and Active Reviews

A list of all completed and currently active 5-year reviews can be found at https://ecos.fws.gov/ecp/report/species-five-year-review.

Authority

This document is published under the authority of the Endangered Species Act of 1973, as amended (16 U.S.C. 1531 et seq.).

Amy L. Lueders,
Regional Director, Southwest Region, U.S. Fish and Wildlife Service.

[FR Doc. 2022-02135 Filed 2-1-22; 8:45 am]

BILLING CODE 4333-15-P